DEPARTMENT OF DEFENSE

Office of the Secretary

Comprehensive Review of the Military Justice System

AGENCY: Department of Defense.

ACTION: Notice.

SUMMARY: The Secretary of Defense directed the General Counsel of the Department of Defense (the General Counsel) to conduct a comprehensive review of the military justice system. To carry out the review, the General Counsel established the Military Justice Review Group (MJRG). The MJRG's review is focused on the structure and operation of the Uniform Code of Military Justice (UCMJ) and the Manual for Courts-Martial (MCM).

The General Counsel invites members of the public to suggest areas for review by the MJRG concerning both substantive military law and military justice procedures, as well as submit specific proposals to amend the UCMJ and the MCM. Please provide supporting rationale for any proposed changes.

DATES: Submissions are requested no later than July 1, 2014.

ADDRESSES: You may submit comments by either of the following methods:

• E-Mail: OSD.UCMJ@mail.mil.

• Mail: Military Justice Review, Room 3B747, 1600 Defense Pentagon, Washington, DC 20301-1600.

Web site: http://www.dod.mil/dodgc/mjrg.html.

FOR FURTHER INFORMATION CONTACT: Mr. William Sprance, DoD Office of the General Counsel, 1600 Defense Pentagon, Washington DC 20301-1600; (703) 571-9457.

SUPPLEMENTARY INFORMATION: Comments submitted via email should be in one of the following formats: Adobe Acrobat or Microsoft Word. Materials received will not be returned, and any comments or submission received may become available to the public.

Dated: May 14, 2014.
Aaron Siegel,
Alternate OSD Federal Register Liaison Officer, Department of Defense.

[FR Doc. 2014-11507 Filed 5-16-14; 8:45 am]

BILLING CODE 5001-06-P